Proclamation 9337 of September 30, 2015

National Domestic Violence Awareness Month, 2015

By the President of the United States of America

A Proclamation

Domestic violence impacts women, men, and children of every age, background, and belief. Nearly 1 in 4 women and 1 in 7 men in the United States have suffered severe physical violence by an intimate partner. Victims are deprived of their autonomy, liberty, and security, and face tremendous threats to their health and safety. During National Domestic Violence Awareness Month, we reaffirm our dedication to forging an America where no one suffers the hurt and hardship that domestic violence causes—and we recommit to doing everything in our power to uphold the basic human right to be free from violence and abuse.

While physical marks may often be the most obvious signs of the harm caused by domestic violence, the true extent of the pain goes much deeper. Victims not only face abuse, but often find themselves left with significant financial insecurity. And children who witness domestic violence often experience lifelong trauma. These heinous acts go against all we know to be humane and decent, and they insult our most fundamental ideals. We all have a responsibility to try to end this grave problem.

Prior to the passage of the Violence Against Women Act (VAWA), many did not view domestic violence as a serious offense, and victims often had nowhere to turn for support. VAWA significantly transformed our Nation—it enhanced the criminal justice response to violence against women and expanded survivors' access to immediate assistance and long-term resources to rebuild their lives. The Family Violence Prevention and Services Act is another important piece of legislation that improved our public health response to domestic violence and increased the availability of critical services for victims.

My Administration has worked hard to build on the progress of the past several decades and improve domestic violence prevention and response efforts. We have extended protections and prevention measures to more victims, including in Native American and immigrant communities, and worked to break down barriers for more people seeking help. And the reauthorization of VAWA I signed in 2013 prohibits—for the first time—discrimination based on sexual orientation and identity when providing services. Additionally, thanks to the Affordable Care Act, most health plans must now cover preventive services, including screening and counseling for domestic violence, at no additional cost. My Administration has also sought to secure greater workplace protections by requiring Federal agencies to develop policies that address the effects of domestic violence and to provide assistance to employees experiencing it. And I recently signed an Executive Order to establish paid sick leave for Federal contractors, which enables them to use it for absences resulting from domestic violence.

Though we have made great progress in bringing awareness to and providing protections against domestic violence, much work remains to be done. In that spirit, Vice President Joe Biden launched our 1is2many initiative, which aims to raise awareness of dating violence and reduce sexual assault among students, teens, and young adults. And earlier this year, we reaffirmed our Nation's commitment to addressing domestic violence at all stages of life by holding the White House Conference on Aging, which addressed elder abuse as a public health problem that affects millions of older Americans. These initiatives will help advance our efforts to ensure no person is robbed of the chance to live out their greatest aspirations.

Safeguarding and opening doors of opportunity for every American will remain a driving focus for our country—and we know that crimes like domestic violence inhibit our Nation from reaching its fullest potential. This month, let us once again pledge our unwavering support to those in need and recognize the advocates, victim service providers, and organizations who work tirelessly to extend hope and healing to survivors and victims every day. I encourage all people in need of assistance to call the National Domestic Violence Hotline at 1-800-799-SAFE or visit www.TheHotline.org.

NOW, THEREFORE, I, BARACK OBAMA, President of the United States of America, by virtue of the authority vested in me by the Constitution and the laws of the United States, do hereby proclaim October 2015 as National Domestic Violence Awareness Month. I call on all Americans to speak out against domestic violence and support local efforts to assist victims of these crimes in finding the help and healing they need.

IN WITNESS WHEREOF, I have hereunto set my hand this thirtieth day of September, in the year of our Lord two thousand fifteen, and of the Independence of the United States of America the two hundred and fortieth.

[FR Doc. 2015-25476

Filed 10-2-15; 11:15 am]

Billing code 3295-F6-P